DEPARTMENT OF AGRICULTURE

Food Safety and Inspection Service

[Docket No. 03-013N]

Exemption for Retail Store Operations

AGENCY: Food Safety and Inspection Service, USDA.

ACTION: Notice of Adjusted Dollar Limitations.

SUMMARY: The Food Safety and Inspection Service (FSIS) is announcing the dollar limitations on sales of meat and meat food products and poultry products to hotels, restaurants, and similar institutions that do not disqualify a store for exemption from Federal inspection requirements. By reason of FSIS' regulations, for calendar year 2003 the dollar limitation for meat and meat food products is remaining at $47,000 and for poultry products at $41,600. FSIS is retaining the dollar limitations from calendar year 2002 based on the small price changes for these products evidenced by the Consumer Price Index (CPI).

EFFECTIVE DATE: This notice is effective June 9, 2003.

FOR FURTHER INFORMATION CONTACT: Lynn Dickey, Ph.D., Director, Regulations and Directives Development Staff, Office of Policy, Program Development, and Evaluation, FSIS, U.S. Department of Agriculture, Room 112, Cotton Annex Building, 300 12th Street, SW, Washington, DC 20250-3700; telephone (202) 720-5627, fax (202) 690-0486.

SUPPLEMENTARY INFORMATION:

Background

The Federal Meat Inspection Act (21 U.S.C. 601 et seq.) and the Poultry Products Inspection Act (21 U.S.C. 451 et seq.) provide that the statutory provisions requiring inspection of the slaughter of livestock or poultry and the preparation or processing of products thereof do not apply to operations of types traditionally and usually conducted at retail stores and restaurants, when conducted at any retail store or restaurant or similar retail-type establishment for sale in normal retail quantities or service to consumers at such establishments (21 U.S.C. 454(c)(2)and 661(c)(2)). In Title 9 of the Code of Federal Regulations §§ 303.1(d) and 381.10(d), respectively, FSIS regulations address the conditions under which requirements for inspection do not apply to retail operations.

Under these regulations, sales to hotels, restaurants, and similar institutions disqualify a store for exemption if they exceed either of two maximum limits: 25 percent of the dollar value of total product sales or the calendar year dollar limitation set by the Administrator. The dollar limitation is adjusted automatically during the first quarter of the year if the CPI, published by the Bureau of Labor Statistics, indicates an increase or decrease of more than $500 in the price of the same volume of product for the previous year. FSIS publishes a notice of the adjusted dollar limitations in the Federal Register. (See paragraphs (d)(2)(iii)(b) and (d)(2)(iii) of §§ 303.1 and 381.10.)

The CPI for 2002 reveals an average annual price increase for meat and meat food products of 0.2 percent and an annual average price decrease for poultry products of 0.7 percent. The price increase for meat and meat food products is $94 and the price decrease for poultry products is $291. Because the price of meat and meat food products and the price of poultry products have not changed by more than $500, in accordance with §§ 303.1 (d)(2)(iii)(b) and 381.10(d)(2)(iii)(b) of the regulations, FSIS has retained the dollar limitation on sales to hotels, restaurants, and similar institutions at $47,000 for meat and meat food products and at $41,600 for poultry products for calendar year 2003.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the Internet at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the Internet at http://www.fsis.usda.gov/oa/update/update.htm. Click on the “Subscribe to the Constituent Update Listserv” link, then fill out and submit the form.

Done at Washington, DC, on: June 4, 2003.
Garry L. McKee,
Administrator.

[FR Doc. 03-14417 Filed 6-6-03; 8:45 am]

BILLING CODE 3410-DM-P